ENVIRONMENTAL PROTECTION AGENCY

40 CFR Part 63

[AD-FRL-6997-8]

RIN 2060-AI34

National Emission Standards for Hazardous Air Pollutants for Chemical Recovery Combustion Sources at Kraft, Soda, Sulfite, and Stand-Alone Semichemical Pulp Mills

Correction

In rule document 01-17559 beginning on page 37591 in the issue of Thursday, July 19, 2001, make the following correction:

On page 37592, under the heading II. Summary of Corrections in the table under the heading Citation §63.865(b)(4), in the formula “(21×X)” should read “(21−X)”.

[FR Doc. C1-17559 Filed 8-3-01; 8:45 am]

BILLING CODE 1505-01-D

DEPARTMENT OF HEALTH AND HUMAN SERVICES

Food and Drug Administration

[Docket Nos. 01-D-0294 and 01D-0295]

Draft Guidances for Industry on Providing Regulatory Submissions to Office of Food Additive Safety in Electronic Format: General Considerations and for Food Additive and Color Additive Petitions; Availability

Correction

In the issue of Thursday, August 2, 2001, on page 40322, in the second column, in the correction of notice document 01-18948 in the 8th line “http://www.dfsan.fda.gov/~dms/opa-toc.html ” should read “http://www.cfsan.fda.gov/~dms/opa-toc.html. ”

[FR Doc. C1-18948 Filed 8-3-01; 8:45 am]

BILLING CODE 1505-01-D

DEPARTMENT OF THE INTERIOR

Fish and Wildlife Service

Notice of Intent to Prepare Comprehensive Conservation Plans and Envrionmental Impact Assessments for Arrowwood National Wildlife Refuge, Pingree, ND and Sand Lake National Wildlife Refuge, Columbia, SD

Correction

In notice document 01-19122, appearing on page 39786, in the issue of Wednesday, August 1, 2001, make the following correction:

On page 39786, in the third column, in the fifth paragraph, “September 12, 2001” should read “September 13, 2001”.

[FR Doc. C1-19122 Filed 8-3-01; 8:45 am]

BILLING CODE 1505-01-D

SECURITIES AND EXCHANGE COMMISSION

[Securities Exchange Act of 1934; Release No. 44528; File No. SR-CBOE-2001-31]

In the Matter of Chicago Board Options Exchange, Incorporated; Order of Summer Abrogation

Correction

In notice document 01-17516 appearing on page 36809, in the issue of Friday July 13, 2001, make the following correction:

On page 36809, in the second column, the docket number is corrected to read as set forth above.

[FR Doc. C1-17516 Filed 8-3-01; 8:45 am]

BILLING CODE 1505-01-D